DEPARTMENT OF STATE

[Public Notice: 11087]

Advisory Committee on Historical Diplomatic Documentation; Notice of Cancellation of Open Meeting

Due to concerns surrounding the spread of COVID-19, the Advisory Committee on Historical Diplomatic Documentation is cancelling its open meeting previously scheduled on Monday, June 1. If the meeting is rescheduled, the Department of State will issue a Federal Register Notice with details.

For additional information, contact Adam Howard, Office of the Historian, at history@state.gov.

Zachary A. Parker,
Director, Office of Directives Management, U.S. Department of State.

[FR Doc. 2020-07758 Filed 4-13-20; 8:45 am]

BILLING CODE 4710-34-P